ENVIRONMENTAL PROTECTION AGENCY

40 CFR Part 52

[EPA-R06-OAR-2010-0846; FRL-9250-5]

Approval and Promulgation of Implementation Plans; New Mexico; Federal Implementation Plan for Interstate Transport of Pollution Affecting Visibility and Best Available Retrofit Technology Determination

AGENCY: Environmental Protection Agency (EPA).

ACTION: Notice of public hearing.

SUMMARY: On January 5, 2011, EPA published a proposal in the Federal Register to disapprove a portion of a State Implementation Plan (SIP) revision submitted by the State of New Mexico and promulgate a Federal Implementation Plan (FIP) to prevent emissions from New Mexico sources from interfering with other states' measures to protect visibility, and to address the requirement for best available retrofit technology (BART) for nitrogen oxide (NOX) emissions. EPA has scheduled an open house and public hearing for the proposal to be held in Farmington, New Mexico on February 17, 2011. More information is provided in SUPPLEMENTARY INFORMATION.

DATES: The open house and public hearing will be held February 17, 2011, in Farmington, New Mexico.

ADDRESSES: The open house and public hearing will be held at San Juan College, 4601 College Boulevard, Computer Science Building, Room 7103, Farmington, New Mexico 87402, (505) 326-3311. The open house will begin at 3 p.m. and end at 5 p.m. local time. The public hearing will begin at 6 p.m.

FOR FURTHER INFORMATION CONTACT: Joe Kordzi, Air Planning Section (6PD-L), Environmental Protection Agency, Region 6, 1445 Ross Avenue, Suite 700, Dallas, Texas 75202-2733, telephone (214) 665-7186, fax number (214) 665-7263; e-mail address kordzi.joe@epa.gov.

SUPPLEMENTARY INFORMATION: Throughout this document whenever “we”, “us”, or “our” is used, we mean the EPA. On January 5, 2011 (76 FR 491), we published a proposal in the Federal Register to (1) disapprove a portion of a SIP revision submitted by the State of New Mexico and (2) promulgate a FIP to prevent emissions from New Mexico sources from interfering with other states' measures to protect visibility, and address the requirement for BART for NOX emissions. Our proposal can be accessed through the regulations.gov Web site (Docket No. EPA-R06-OAR-2010-0846). We have scheduled an open house and public hearing for our proposal to be held on February 17, 2011, at San Juan College, 4601 College Boulevard, Computer Science Building, Room 7103, Farmington, New Mexico 87402, (505) 326-3311. The open house will begin at 3 p.m. and end at 5 p.m. local time. The public hearing will begin at 6 p.m.

The public hearing will provide interested parties the opportunity to present views or arguments concerning our proposal. Interested parties may also submit written comments, as discussed in the proposal. Written statements and supporting information submitted during the comment period will be considered with the same weight as any oral comments and supporting information presented at the public hearing. We will not respond to comments during the public hearing. When we publish our final action, we will provide written responses to all oral and written comments received on our proposal. To provide opportunities for questions and discussion, we will hold an open house prior to the public hearing. During the open house, EPA staff will be available to informally answer questions on our proposed action. Any comments made to EPA staff during the open house must still be provided formally in writing or orally during the public hearing in order to be considered in the record.

Oral testimony may be limited to 5 minutes for each commenter to address the proposal. We will not be providing equipment for commenters to show overhead slides or make computerized slide presentations. Any person may provide written or oral comments and data pertaining to our proposal at the Public Hearing. Verbatim transcripts, in English, of the hearing and written statements will be included in the rulemaking docket.

Dated: January 4, 2011.
Carl E. Edlund,
Multimedia Planning and Permitting Division Director, Region 6.

[FR Doc. 2011-374 Filed 1-10-11; 8:45 am]

BILLING CODE 6560-50-P